DEPARTMENT OF HOMELAND SECURITY

Federal Emergency Management Agency

44 CFR Part 67

[Docket No. FEMA-B-7470]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground *Elevation in feet (NGVD) +Elevation in feet (NAVD): Existing | #Depth in feet above ground *Elevation in feet (NGVD) +Elevation in feet (NAVD): Modified
Town of Hulett, Wyoming
WY | Town of Hulett | Belle Fourche River | Approximately 2.0 miles downstream of State Highway 24 (at cross section A) | None | +3,738
|  |  | Approximately 0.33 miles downstream of State Highway 24 (approximate cross section G) | None | +3,750
WY | Town of Hulett | Belle Fourche River | Approximately 0.31 miles upstream of State Highway 24 (approximate cross section J) | None | +3,753
|  |  | Approximately 0.43 miles upstream of State Highway 24 South (at cross section T) | None | +3,764
* National Geodetic Vertical Datum.
# Depth in feet above ground.
+ North American Vertical Datum.
ADDRESSES
Town of Hulett
Maps are available for inspection at the Town of Hulett, 123 Hill Street, Hulett, Wyoming.
Send comments to the Honorable Shawn Tabke, Mayor, 123 Hill Street, Hulett, Wyoming 82720.

Flooding source(s) | Location of referenced elevation | *Elevation in feet (NGVD) +Elevation in feet (NAVD) #Depth in feet above ground: Effective | *Elevation in feet (NGVD) +Elevation in feet (NAVD) #Depth in feet above ground: Modified | Communities affected
Houston County, Georgia and Incorporated Areas
Howard Branch | At confluence with Sandy Run Creek | +308 | +304 | City of Warner.
| Approximately 690 feet upstream of confluence with Sandy Run Creek | +308 | +307 | Robins, Houston County (Unincorporated Areas).
Redding Branch | At confluence with Sandy Run Creek | +270 | +269 | Houston County (Unincorporated Areas).
| Approximately 630 feet upstream of confluence with Mossy Creek | +270 | +269 |
Sandy Run Creek | Approximately 1,700 feet upstream of Leisure Lake Dam | +301 | +302 | Houston County (Unincorporated Areas).
| Approximately 11,950 feet upstream of confluence of Howard /Branch | +309 | +310 |
* National Geodetic Vertical Datum.
# Depth in feet above ground.
+ North American Vertical Datum.
ADDRESSES
Houston County (Unincorporated Areas)
Maps are available for inspection at Houston County Building Inspections Department, 200 Carl Vinson Parkway, Warner Robins, Georgia.
Send comments to Mr. Timothy E. Andrews, Building Official/Zoning Officer, Houston County Building Inspections Department, 200 Carl Vinson Parkway, Warner Robins, Georgia 31088.
City of Warner Robins
Maps are available for inspection at the City of Warner Robins Engineering Department, 700 Watson Boulevard, Warner Robins, Georgia.
Send comments to Mr. Walter Gray, III, City Engineer, 700 Watson Boulevard, Warner Robins, Georgia 31093.
Sangamon County Illinois and Incorporated Areas
Lake Springfield | From Spaulding Dam south to Lindsey Bridge | None | +561 | City of Springfield, Sangamon County (Unincorporated Areas).
* National Geodetic Vertical Datum.
# Depth in feet above ground.
+ North American Vertical Datum.
ADDRESSES
City of Springfield
Maps are available for inspection at the Springfield-Sangamon County Regional Planning Commission, 200 South 9th Street, Room 212, Springfield IL 62701.
Send comments to The Honorable Tim Davlin, Mayor, City of Springfield, 300 Municipal Center East, Springfield, IL 62701.
Unincorporated Areas of Sangamon County
Maps are available for inspection at the Springfield-Sangamon County Regional Planning Commission, 200 South 9th Street, Room 212, Springfield IL 62701.
Send comments to The Honorable Andy Van Meter, County Board Chairman, 200 South Ninth, Springfield, IL 62701.
Carroll County, Kentucky and Incorporated Areas
Ohio River | Western County boundary with Trimble County | None | +465 | Carroll County (Unincorporated Areas).
| Eastern County boundary with Gallatin County | None | +472
# Depth in feet above ground.
* National Geodetic Vertical Datum.
+ National American Vertical Datum.
ADDRESSES
Carroll County Unincorporated Areas
Maps are available for inspection at Carroll Emergency Operations Center, 829 Polk Street, Carrollton, Kentucky 41008.
Send comments to Harold Tomlinson, Jr., Carroll County Judge/Executive, Carroll County Fiscal Court, 440 Main Street, 2nd Floor, Courthouse, Carrollton, Kentucky 41008.
Franklin County, Kentucky and Incorporated Areas
Penitentiary Branch | Approximately 660 feet upstream of the confluence with the Kentucky River | None | +493 | Franklin County (Unincorporated Areas), City of Franklin.
| Approximately 2,820 feet upstream of U.S. Route 127 | None | +493
* National Geodetic Vertical Datum.
# Depth in feet above ground.
+ North American Vertical Datum.
ADDRESSES
Franklin County Unincorporated Areas
Maps are available for inspection at 313 West Main Street, Frankfort, Kentucky 40601.
Send comments to Teresa Barton, Franklin County Judge/Executive, 313 West Main Street, County Courthouse, Frankfort, Kentucky 40601.
City of Franklin
Maps are available for inspection at 315 West Second Street, Frankfort, Kentucky 40602.
Send comments to William I. May, Jr., Mayor, City of Frankfort , 315 West Second Street, Frankfort, Kentucky 40602.
Hardin County, Kentucky and Incorporated Areas
Buffalo Creek | Approximately 750 feet upstream of Poplar Street | None | +708 | City of Elizabethtown, Hardin County (Unincorporated Areas).
| Approximately 2,065 feet downstream of Bluegrass Road | None | +812 |
Hawkins Steel Tributary | Approximately 130 feet downstream of Steel Drive | None | +745 | City of Elizabethtown, Hardin County (Unincorporated Areas).
| Approximately 615 feet upstream of Hodgenville Road | None | +763 |
Park Lane Tributary | From the confluence with Freeman Creek | *697 | +702 | City of Elizabethtown, Hardin County (Unincorporated Areas).
| Approximately 60 feet downstream of Meadow Lane | *731 | +737 |
Pear Orchard Tributary | Approximately 545 feet downstream of Village Drive | *715 | +716 | City of Elizabethtown, Hardin County (Unincorporated Areas).
| Approximately 80 feet upstream of Pear Orchard Road | *793 | +789 |
* National Geodetic Vertical Datum.
+ North American Vertical Datum.
# Depth in feet above ground.
ADDRESSES
Hardin County (Unincorporated Areas)
Maps are available for inspection at 14 Public Square, 3rd Floor, Elizabethtown, Kentucky 42701.
Send comments to Harry Berry, County Judge/Executive, 100 Public Square 3rd Floor, Elizabethtown, Kentucky 42701.
City of Elizabethtown
Maps are available for inspection at 200 West Dixie Avenue, Elizabethtown, Kentucky 42701.
Send comments to David Willmoth, Mayor, 411 West Lincoln Trail Blvd., Elizabethtown, Kentucky 40160.
Santa Fe County, New Mexico and Incorporated Areas
Admin Arroyo | At the confluence of Admin Arroyo and Rio Tesuque | None | +6291 | Santa Fe County (Unincorporated Areas).
| Approximately 4000 feet upstream of the intersection of Admin Arroyo and Highway 84 | None | +6509
Arroyo Saiz | Confluence of Arroyo Saiz and Santa Fe River | +7034 | +7033 | City of Santa Fe, Santa Fe County (Unincorporated Areas).
| Approximately 4600 feet upstream from confluence with Santa Fe River | +7180 | +7171 |
Arroyo Seco | Approximately 2500 feet upstream of the intersection of Highway 399 (106) and Jara Lane | None | +5640 | Santa Fe County (Unincorporated Areas).
| Intersection of Arroyo Seco and Highway 84/285 | None | +5723 |
Batchelor Draw | Intersection of Batchelor Draw and Abajo Drive | None | +6622 | Santa Fe County (Unincorporated Areas).
| Intersection of Batchelor Draw and Quiet Valley Loop | None | +6693 |
Pojoaque River | Approximately 2300 feet upstream from confluence with Rio Grande | None | +5543 | Santa Fe County (Unincorporated Areas).
| Confluence of the Pojoaque River and Pojoaque Creek | None | +5774 |
Rio Tesuque | At the confluence of Rio Tesuque and Pojoaque Creek | None | +5783 | Santa Fe County (Unincorporated Areas).
| Downstream face of intersection of Rio Tesuque and Highway 502 | None | +5811 |
Santa Fe River | Approximately 2000 feet downstream from the intersection of Sante Fe River and Paseo Real | None | +6261 | City of Santa Fe, Santa Fe County (Unincorporated Areas).
| Approximately 300 feet upstream from intersection of Santa Fe River and Cerro Gordo Road | None | +7290 |
* National Geodetic Vertical Datum.
# Depth in feet above ground.
+ North American Vertical Datum.
ADDRESSES
City of Santa Fe
Maps are available for inspection at 200 Lincoln Ave., P.O. Box 909, Santa Fe, NM 87504.
Send comments to The Honorable David Coss, Mayor, 200 Lincoln Ave., Santa Fe, NM 87501.
Unincorporated Areas of Santa Fe County
Maps are available for inspection at Santa Fe County Courthouse, 102 Grant Ave., Santa Fe, NM 87504.
Send comments to Mr. Gerald Gonzales, County Manager, P.O. Box 276, Santa Fe, NM 87504.

(Catalog of Federal Domestic Assistance No. 83.100, “Flood Insurance.”)

Dated: October 5, 2006.
David I. Maurstad,
Director, Mitigation Division, Federal Emergency Management Agency, Department of Homeland Security.

[FR Doc. E6-18326 Filed 10-31-06; 8:45 am]

BILLING CODE 9110-12-P